DEPARTMENT OF THE INTERIOR

National Park Service

Concession Contracts and Permits; Extension of Expiring Contracts for Up to One Year

AGENCY: National Park Service, Interior.

ACTION: Public Notice.

SUMMARY: Pursuant to 36 CFR 51.23, public notice is hereby given that the National Park Service proposes to extend the following concession contracts for a period of up to one year, or until such time as a new contract is awarded, whichever occurs sooner.

SUPPLEMENTARY INFORMATION: The National Park Service has determined that the proposed short-term extensions are necessary in order to avoid interruption of visitor services and has taken all reasonable and appropriate steps to consider alternatives to avoid such interruption. These extensions will allow the National Park Service to complete the competitive selection of concessioners for new long-term concession contracts covering these operations.

Concessioner ID No. | Concessioner name | Park
CANY031 | Holiday River Expeditions, Inc | Canyonlands National Park.
CANY032 | Kaibab Trails, Inc | Canyonlands National Park.
CANY033 | Nichols Expeditions, Inc | Canyonlands National Park.
CANY034 | Rim Tours, Inc | Canyonlands National Park.
CANY035 | Western Spirit Cycling, Inc | Canyonlands National Park.

EFFECTIVE DATE: April 10, 2002.

FOR FURTHER INFORMATION CONTACT: Cynthia Orlando, Concession Program Manager, National Park Service, Washington, DC 20240, Telephone 202/565-1210.

Dated: March 10, 2002.
Richard G. Ring,
Associate Director, Park Operations and Education.

[FR Doc. 02-8572 Filed 4-9-02; 8:45 am]

BILLING CODE 4310-70-M